DEPARTMENT OF DEFENSE

Office of the Secretary

[Docket ID: DOD-2016-OS-0086]

Notice of Availability for Finding of No Significant Impact for the Environmental Assessment Addressing Defense Logistics Agency Disposition Services Relocation and Expansion at Defense Supply Center Richmond, Virginia

AGENCY: Defense Logistics Agency (DLA), Department of Defense.

ACTION: Notice of availability (NOA).

SUMMARY: On August 17, 2016, DLA published a NOA in the Federal Register announcing the publication of the Environmental Assessment (EA) Addressing Defense Logistics Agency Disposition Services Relocation and Expansion at Defense Supply Center Richmond, Virginia. The EA was available for a 30-day public comment period that ended September 16, 2016. DLA considered all comments prior to making the determination to proceed with this Finding of No Significant Impact (FONSI).

FOR FURTHER INFORMATION CONTACT: Ira Silverberg at 703-767-0705 during normal business hours Monday through Friday, from 8:00 a.m. to 4:30 p.m. (EST) or by email: ira.silverberg@dla.mil.

SUPPLEMENTARY INFORMATION: The EA was prepared as required under the National Environmental Policy Act (NEPA) of 1969. In addition, the EA complied with DLA Regulation 1000.22. DLA completed an EA to address the potential environmental consequences associated with the Proposed Action at Defense Supply Center Richmond. This FONSI incorporates the EA by reference and summarizes the results of the analyses in the EA. Additionally, this FONSI documents the decision of DLA to implement the Proposed Action at Defense Supply Center Richmond. DLA has determined that the Proposed Action is not a major federal action significantly affecting the quality of the human environment within the context of NEPA and that no significant impacts on the human environment are associated with this decision.

DLA received two comments during the 30-day public comment period. An anonymous comment, dated September 13, 2016, concurred with DLA that the Proposed Action would not result in a significant impact. The Virginia Department of Environmental Quality (DEQ) coordinated review of the EA by state agencies, planning district commissions, and Chesterfield County and provided a consolidated comment letter dated September 15, 2016. The Virginia DEQ consolidated comment letter noted the EA did not address potential impacts to land analogous to Chesapeake Bay Preservation Areas. On September 22, 2017, DLA responded to the Virginia DEQ consolidated comment letter. DLA's response letter noted that DLA conducted a wetland delineation, stream assessment, and resource protection area (RPA) delineation and submitted a RPA Designation Application to Chesterfield County requesting redesignation of the RPA within a portion of the proposed 18.2-acre outdoor storage area on March 31, 2017. Chesterfield County confirmed DLA's perennial stream flow determination and RPA designations on April 14, 2017.

DLA determined that the Proposed Action would be consistent, to the maximum extent practicable, with the enforceable policies of Virginia's Coastal Zone Management Program and submitted a coastal zone consistency determination for Virginia DEQ review on June 9, 2016. On August 16, 2016, Virginia DEQ concurred that the Proposed Action would be consistent with Virginia's Coastal Zone Management Program provided DLA obtains all applicable permits and approvals.

The Proposed Action would take place within the Bellwood-Richmond Quartermaster Depot Historic District, which is eligible for listing in the National Register of Historic Places. Pursuant to the National Historic Preservation Act, DLA contacted the State Historic Preservation Officer to conduct Section 106 consultation for the Proposed Action on September 25, 2015. In a letter dated November 2, 2015, the State Historic Preservation Office concurred that the Proposed Action would not adversely affect historic properties.

The EA includes an appendix with the public's comments and DLA's response, coastal zone consistency documentation, and State Historic Preservation Office consultation documents. The revised EA is available electronically at the Federal eRulemaking Portal at http://www.regulations.gov within Docket ID: DOD-2016-OS-0086.

Purpose and Need for Action: The purpose of the Proposed Action is to improve the efficiency of DLA Disposition Services operations in the Eastern United States. The Proposed Action is necessary, because the DLA Disposition Services disposal network in the Eastern United States has experienced increased customer wait times, insufficient loading bays, workload and productivity imbalances between sites, aging facilities, and a lack of process optimization since DLA Distribution and DLA Disposition Services merged materiel receipt, storage, and distribution functions.

Proposed Action and Alternatives: Under the Proposed Action, DLA would: (1) Redesign the DLA Disposition Services mid-Atlantic disposal network. This will divert incoming excess military property from DLA Disposition Services at Fort Meade, Fort Bragg, Norfolk, and Susquehanna to DLA Disposition Services at Richmond. (2) Expand DLA Disposition Services at Richmond to a full-service operation (i.e., receive, store, distribute, and sell excess military equipment; documentation of hazardous materials management; demilitarization; and scrap operations). The expansion increases the warehouse footprint from 60,000 to 340,000 square feet (an addition of 280,000 square feet) and increases the outdoor storage area footprint from 34 to 60 acres (an addition of 26 acres). (3) Create an operational test bed for research, development, testing, and evaluation of standardized disposal practices at DLA Disposition Services at Richmond.

Description of the No Action Alternative: The No Action Alternative avoids relocation, or expansion of DLA Disposition Services at Richmond. DLA Disposition Services would continue to operate with extensive customer wait times, insufficient loading bays, workload and productivity imbalances between sites, aging facilities, and a lack of process optimization. The No Action Alternative would not meet the purpose of and need for the Proposed Action.

Potential Environmental Impacts: No significant effects on environmental resources are expected from the Proposed Action. Insignificant, adverse effects on land use, e.g., noise, air quality, geological resources, water resources, biological resources, cultural resources, infrastructure and transportation, hazardous materials and wastes, and health and safety are to be expected. Insignificant and beneficial effects on infrastructure and socioeconomics are also to be expected. The EA covers details of the environmental consequences, which is hereby incorporated by reference.

Determination: DLA has determined that implementation of the Proposed Action will not have a significant effect on the human environment. DLA interprets the human environment as the natural and physical environment and the relationship of people with that environment. DLA based this determination on an analysis of uncertain or controversial impacts; unique or unknown risks; and cumulative impacts of the proposed action. Implementation of the Proposed Action will not violate any Federal, State, or local laws.

Mr. Phillip R. Dawson, Acting Director, DLA Installation Management, concludes that implementing the Proposed Action at the Defense Supply Center Richmond does not constitute a major federal action that would significantly affect the quality of the environment within the context of NEPA. This decision is based on the results of the analyses performed during the EA preparation as well as comments received from the public.

Therefore, an environmental impact statement for the Proposed Action is not required.

Dated: March 8, 2018.
Aaron Siegel,
Alternate OSD Federal Register Liaison Officer, Department of Defense.

[FR Doc. 2018-05055 Filed 3-12-18; 8:45 am]

BILLING CODE 5001-06-P